DEPARTMENT OF HEALTH AND HUMAN SERVICES

Centers for Disease Control and Prevention

[30 Day-14-13AIG]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Taxi Driver Survey on Motor Vehicle Safety and Workplace Violence (or, Taxi Driver Survey)—New—National Institute for Occupational Safety and Health (NIOSH), Centers for Disease Control and Prevention (CDC).

Background and Brief Description

Under the Public Law 91-596 (Section 20[a][1]), the National Institute for Occupational Safety and Health (NIOSH) is tasked with conducting research relating to occupational safety and health. There are two types of work-related events that are the overwhelming cause of injury and death among taxicab drivers: Transportation-related events (almost exclusively highway-related) and workplace violence.

In the United States, motor vehicle crashes remain the leading cause of occupational fatalities and continue to be a leading cause of occupational nonfatal injuries. In 1998-2002, workers in the “Taxi Services” industry had the highest rate of nonfatal motor vehicle-related injuries treated in emergency departments (86 per 10,000 FTEs). Moreover, 134 of the 423 (32%) fatalities 2003-2010 in the “Taxi and limousine services” industry resulted from a motor vehicle crash.

Workers, who operate light motor vehicles as their primary job, including taxi drivers, are an inadequately studied population. There are few reports describing the population of workers driving light motor vehicles, their driving patterns, or their driving behaviors. The road safety component of the proposed study would provide new scientific knowledge of a well-defined occupation whose primary job is to operate a taxi cab at any time of day under numerous road and traffic conditions. Motor vehicle safety findings from this survey will be disseminated globally to municipal transportation regulators through an established network.

Workplace violence continues to contribute substantially to the public health burden of both nonfatal and fatal injury outcomes. The proposed study would have a workplace violence section in the survey that would allow the evaluation of the major types of safety equipment on rates of workplace violence incidents and events at the individual level (taxicab drivers).

The proposed study goals are to: (1) Describe the occurrence of motor vehicle events among taxicab drivers, (2) describe the risk factors of motor vehicle events among taxicab drivers, and (3) evaluate events of workplace violence among taxicab drivers. In order to accomplish the study goals, the corresponding study objectives are: (a) To enumerate the occurrence of motor vehicle crashes among taxicab drivers, (b) identify and describe the risk factors and protective factors associated with road safety among taxicab drivers, and (c) compare workplace violence events over a twelve-month period among taxicab drivers by type of safety equipment installed in taxicab.

Findings from the study will be used to develop future prevention initiatives for reducing work-related motor vehicle crashes. These prevention initiatives, such as reducing driver fatigue through shift work limitations, may take the form of municipal ordinances promulgated by the city regulators or company-wide directives designed to impact road safety by a city taxi fleet. Another use of data collected for this study would be to serve as a baseline measure for a future evaluation of safety initiatives implemented at the municipal level. Finally, contextual data on motor vehicle crashes is not completely captured by current surveillance methods. Such a survey would provide insight into the occurrence of crashes involving taxicabs. Furthermore, data on driving behaviors in the context of safety climate and role overload can only be obtained directly from taxicab drivers and will provide the perspective needed for designing effective safety interventions.

CDC requests OMB approval for 2 years to collect survey data using the Taxi Driver Survey. CDC anticipates the survey data collection will be conducted in Houston over several months in Summer/Fall of 2014 and over several months in FY 2015 for Los Angeles. The study objectives will be addressed using a single survey designed to capture prevalence and frequency of adverse motor vehicle events and injuries, road safety data elements and workplace violence data elements. Taxicab drivers will be approached and invited to participate in two cities, 550 in Houston and 550 in Los Angeles, it is anticipated 50 taxicab drivers in each city will not participate in the survey. Survey data will be collected from taxicab drivers in two cities, 500 in Houston and 500 in Los Angeles once during a 30 minute in-person interview, while taxicab drivers are waiting in the airport lot to pick up fares.

The survey questions on road safety behaviors are from validated questionnaires used by researchers in Australia. The survey was administered to nine taxicab drivers in Houston to test for clarity and comprehensibility by taxicab drivers. The survey took 30 minutes or less to complete.

The information collected will describe road safety and workplace violence experiences in the past 12 months. Collecting survey data on 500 respondents in each city results in an estimated burden of 275 hours per city. The total estimated burden is 550 hours. There is no cost to respondents other than their time.

Estimated Annualized Burden Hours
Type of respondents | Form name | Number of respondents | Number of responses per respondent | Average burden per response (in minutes)
Taxicab Drivers in Houston | Taxi Driver Survey | 550 | 1 | 30
Taxicab Drivers in Los Angeles | Taxi Driver Survey | 550 | 1 | 30

Leroy Richardson,
Chief, Information Collection Review Office, Office of Scientific Integrity, Office of the Associate Director for Science, Office of the Director, Centers for Disease Control and Prevention.

[FR Doc. 2014-10932 Filed 5-12-14; 8:45 am]

BILLING CODE 4163-18-P